DEPARTMENT OF TRANSPORTATION

Federal Aviation Administration

14 CFR Part 71

[Docket No. FAA-2017-1013; Airspace Docket No. 17-AWP-12]

Proposed Establishment of the Hawaiian Islands High and the Hawaiian Islands Low Offshore Airspace Areas; Hawaii.

AGENCY: Federal Aviation Administration (FAA), DOT.

ACTION: Notice of proposed rulemaking (NPRM).

SUMMARY: This action proposes to establish the Hawaiian High and Hawaiian Low Offshore airspace area. The proposed action would establish Class A airspace extending upward from 18,000 feet mean sea level (MSL) to and including flight level (FL) 600; and Class E airspace, extending upward from 1,200 feet MSL to and including 17,999 feet MSL around the Hawaiian Islands. The FAA is proposing this action to provide additional airspace within which domestic air traffic control (ATC) procedures would be used. Establishment of the Class A and Class E airspaces would enhance the management of air traffic operations and result in more efficient use of that airspace.

DATES: Comments must be received on or before May 29, 2018.

ADDRESSES: Send comments on this proposal to the U.S. Department of Transportation, Docket Operations, 1200 New Jersey Avenue SE, West Building Ground Floor, Room W12-140, Washington, DC 20590-0001; telephone: 1 (800) 647-5527, or (202) 366-9826. You must identify FAA Docket Number FAA-2017-1013 and Airspace Docket Number 17-AWP-12 at the beginning of your comments. You may also submit comments through the internet at http://www.regulations.gov.

FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would support offshore airspace areas around the Hawaiian Islands, and apply domestic air traffic control procedures.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket Number FAA-2017-1013 and Airspace Docket Number 17-AWP-12) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket Number FAA-2017-1013 and Airspace Docket Number 17-AWP-12.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see “ADDRESSES” section for address and phone number) between 9:00 a.m. and 5:00 p.m., Monday through Friday, except Federal holidays. An informal docket may also be examined during normal business hours at the office of the Western Service Center, Operations Support Group, Federal Aviation Administration, 1601 Lind Ave. SW, Renton, WA 98057.

Availability and Summary of Documents for Incorporation by Reference

This document proposes to amend FAA Order 7400.11B, airspace Designations and Reporting Points, dated August 3, 2017, and effective September 15, 2017. FAA Order 7400.11B is publicly available as listed in the ADDRESSES section of this document. FAA Order 7400.11B lists Class A, B, C, D, and E airspace areas, air traffic service routes, and reporting points.

Background

The existing airspace configuration is not consistent with the domestic airspace established throughout the rest of the United States and does not meet the uniform international standards and recommended practices, as promulgated by the International Civil Aviation Organization (ICAO). The area controlled by Honolulu Control Facility (HCF) is within Oakland Oceanic Control Area/Flight Information Region (CTA/FIR) Boundary. The provision of ATC services is delegated by Oakland Air Route Traffic Control Center (ZOA) to HCF to provide flight information and alerting service within this area. Currently, HCF has Domestic Class E airspace out to 100 miles around the Hawaiian Islands. Due to the incorrect airspace designations, HCF is providing domestic IFR separation services within HCF airspace 1,200 feet MSL up to FL 600, inclusive, and in international airspace without a designated offshore airspace area. The absence of Class E and Class A airspace to the boundary of HCF's delegated airspace where ATC has radar and radio navigational signal coverage is inconsistent with the CFRs and will be corrected with this proposed rule. Under a separate rulemaking action, domestic airspace will be amended out to the 12 nautical miles limit surrounding the Hawaiian Islands. Additionally, the establishment of the high and low Offshore Airspace Areas will extend beyond the 12 NM limit to the boundary of the HCF delegated airspace.

The Proposal

The FAA is proposing an amendment to 14 CFR part 71 to establish the Hawaiian Islands High and the Hawaiian Islands Low Offshore airspace areas. The proposed area would consist of Class A airspace, extending upward from 18,000 MSL up to and including FL 600, and Class E airspace, extending upward from 1,200 feet MSL up to and including 17,999 feet MSL within HCF's designated airspace around the Hawaiian Islands. This action would facilitate the application of domestic ATC procedures within that airspace, thereby enhancing the flow of air traffic and increasing system capacity. In addition, this action would enhance safety by providing for the positive control of all aircraft operating in the area. The proposed action would also support the development of a more efficient route system and would enable airspace classification and ATC separation procedures to be consistently applied around the Hawaiian Islands. Finally, the proposed modification would establish the same classification and operating rules that currently apply in adjacent airspace.

Class A and E Offshore airspace area designations are published in paragraph 2003 and 6007 respectively, in FAA Order 7400.11B, dated August 3, 2017, and effective September 15, 2017, which is incorporated by reference in 14 CFR 71.1. The offshore airspace area designations listed in this document will be published subsequently in the Order.

ICAO Considerations

As part of this proposal relates to navigable airspace outside the United States, this notice is submitted in accordance with the ICAO International Standards and Recommended Practices. Article 12 to the Chicago Convention provides that over the high seas the rules inforce shall be those established under the convention. The application of International Standards and Recommended Practices by the FAA, Office of Airspace Services, in areas outside United States domestic airspace, is governed by Annexes 2 (Rule of the Air) and 11 (Air Traffic Services) to the Convention on International Civil Aviation, which pertain to the establishment of necessary air navigational facilities and services to promote the safe, orderly, and expeditious flow of civil air traffic. The purpose of Article 12 and Annex 11 is to ensure that civil aircraft operations on international air routes are performed under uniform conditions. The International Standards and Recommended Practices in Annex 11 apply to airspace under the jurisdiction of a contracting state, derived from ICAO. Annex 11 provisions apply when air traffic services are provided and a contracting state accepts the responsibility of providing air traffic services over high seas or in airspace of undetermined sovereignty. A contracting State accepting this responsibility may apply the International Standards and Recommended Practices that are consistent with standards and practices utilized in its domestic jurisdiction. In accordance with Article 3 of the Convention, State-owned aircraft are exempt from the Standards and Recommended Practices of Annex 11. The United States is a contracting State to the Convention. Article 3(d) of the Convention provides that participating state aircraft will be operated in international airspace with due regard for the safety of civil aircraft. Since this action involves, in part, the designation of navigable airspace outside the United States, the Administrator is consulting with the Secretary of State and the Secretary of Defense in accordance with the provisions of Executive Order 10854.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D AND CLASS E AIRSPACE AREAS; AIRWAYS; ROUTES; AND REPORTING POINTS.

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 2003 Offshore Airspace Areas

* * * * *

Hawaiian Islands High [New]

That airspace extending upward from 18,000 feet MSL to and including FL 600 within the area bounded by a line beginning at lat. 24°43′17″ N, long. 155°15′47″ W; to lat. 24°17′45″ N, long. 154°15′00″ W; to lat. 23°46′50″ N, long. 153°21′58″ W; to lat. 23°01′27″ N, long. 152°34′40″ W; to lat. 22°20′39″ N, long. 151°53′07″ W; to lat. 21°32′52″ N, long. 151°27′59″ W; to lat. 20°41′49″ N, long. 151°01′09″ W; to lat. 19°41′47″ N, long. 150°30′11″ W; to lat. 19°13′22″ N, long. 151°52′46″ W; to lat. 19°08′32″ N, long. 154°29′00″ W; to lat. 18°06′32″ N, long. 155°42′42″ W; to lat. 17°48′18″ N, long. 156°04′05″ W; to lat. 17°10′14″ N, long. 156°48′21″ W; to lat. 17°10′14″ N, long. 157°45′24″ W; to lat. 17°13′28″ N, long. 158°15′04″ W; to lat. 17°45′21″ N, long. 159°32′20″ W; to lat. 18°03′09″ N, long. 160°16′11″ W; to lat. 18°24′28″ N, long. 160°48′51″ W; to lat. 19°24′54″ N, long. 162°23′01″ W; to lat. 19°39′29″ N, long. 162°41′58″ W; to lat. 20°07′00″ N, long. 163°18′00″ W; to lat. 21°09′04″ N, long. 163°54′52″ W; to lat. 22°12′20″ N, long. 163°54′52″ W; to lat. 23°15′30″ N, long. 163°51′18″ W; to lat. 24°10′08″ N, long. 163°15′59″ W; to lat. 25°03′24″ N, long. 162°38′59″ W; to lat. 25°40′34″ N, long. 161°41′28″ W; to lat. 26°06′18″ N, long. 160°37′54″ W; to lat. 26°08′41″ N, long. 158°37′19″ W; thence to the point of beginning, excluding that airspace within 12 miles of the shoreline of the State of Hawaii.

* * * * *

Paragraph 6007 Offshore Airspace Areas

Hawaiian Islands Low [New]

That airspace extending upward from 1,200 feet MSL within the area bounded by a line beginning at lat. 19°10′04″ N, long. 153°39′43″ W; to lat. 19°08′32″ N, long. 154°29′00″ W; to lat. 19°07′10″ N, long. 155°13′34″ W; to lat. 18°45′39″ N, long. 155°35′36″ W; to lat. 18°40′54″ N, long. 156°05′48″ W; to lat. 19°24′23″ N, long. 158°36′11″ W; to lat. 20°18′00″ N, long. 160°46′52″ W; to lat. 20°49′07″ N, long. 161°33′17″ W; to lat. 21°40′37″ N, long. 161°54′48″ W; to lat. 22°31′49″ N, long. 161°55′19″ W; to lat. 23°26′57″ N, long. 161°31′39″ W; to lat. 23°57′27″ N, long. 160°54′00″ W; to lat. 24°18′03″ N, long. 159°50′09″ W; to lat. 24°10′39″ N, long. 158°54′47″ W; to lat. 23°47′34″ N, long. 158°11′12″ W; to lat. 23°30′03″ N, long. 157°29′36″ W; to lat. 23°19′54″ N, long. 156°45′02″ W; to lat. 23°13′26″ N, long. 155°42′39″ W; to lat. 22°54′59″ N, long. 154°55′06″ W; to lat. 22°28′14″ N, long. 154°19′27″ W; to lat. 21°45′08″ N, long. 153°49′50″ W; to lat. 21°02′31″ N, long. 153°38′56″ W; thence to the point of beginning, excluding that airspace within 12 miles of the shoreline of the State of Hawaii. That airspace extending upward from 5,500 feet MSL within the area bounded by a line beginning at lat. 19°11′37″ N, long. 152°50′00″ W; to lat. 19°08′32″ N, long. 154°29′00″ W; to lat. 17°48′59″ N, long. 156°03′17″ W; to lat. 18°28′58″ N, long. 157°59′36″ W; to lat. 19°03′34″ N, long. 159°48′11″ W; to lat. 19°29′40″ N, long. 160°47′02″ W; to lat. 20°00′46″ N, long. 161°44′53″ W, to lat. 20°50′35″ N, long. 162°23′01″ W; to lat. 21°50′15″ N, long. 162°44′13″ W; to lat. 22°52′38″ N, long. 162°38′25″ W; to lat. 23°55′59″ N, long. 162°08′09″ W, to lat. 24°43′41″ N, long. 161°12′18″ W; to lat. 25°00′33″ N, long. 159°50′17″ W; to lat. 24°50′45″ N, long. 158°32′32″ W; to lat. 24°19′39″ N, long. 157°32′31″ W; to lat. 23°59′14″ N, long. 156°28′23″ W; to lat. 23°53′49″ N, long. 155°25′33″ W; to lat. 23°24′55″ N, long. 154°15′20″ W; to lat. 22°41′48″ N, long. 153°28′59″ W; to lat. 21°45′32″ N, long. 152°58′57″ W; to lat. 20°35′50″ N, long. 152°48′18″ W; thence to the point of beginning, excluding that airspace within 12 miles of the shoreline of the State of Hawaii. That airspace upward from 10,000 feet MSL within the area bounded by a line beginning at lat. 19°12′44″ N, long. 152°12′34″ W; to lat. 19°08′32″ N, long. 154°29′00″ W; to lat. 17°20′23″ N, long. 156°36′33″ W; to lat. 18°33′07″ N, long. 159°55′59″ W; to lat. 19°03′09″ N, long. 161°10′15″ W; to lat. 19°31′51″ N, long. 162°00′41″ W; to lat. 20°11′04″ N, long. 162°40′05″ W; to lat. 20°58′47″ N, long. 163°04′59″ W; to lat. 21°56′05″ N, long. 163°19′16″ W; to lat. 22°54′36″ N, long. 163°13′18″ W; to lat. 23°36′43″ N, long. 162°58′50″ W; to lat. 24°30′39″ N, long. 162°32′55″ W; to lat. 25°07′02″ N, long. 161°36′02″ W; to lat. 25°33′41″ N, long. 160°06′39″ W; to lat. 25°27′34″ N, long. 158°34′55″ W; to lat. 24°43′37″ N, long. 156°56′38″ W; to lat. 24°30′12″ N, long. 155°51′07″ W; to lat. 24°16′10″ N, long. 154°47′02″ W; to lat. 23°53′14″ N, long. 153°57′47″ W; to lat. 23°14′36″ N, long. 153°08′32″ W; to lat. 22°20′47″ N, long. 152°35′51″ W; to lat. 21°12′25″ N, long. 152°13′34″ W; to lat. 20°33′20″ N, long. 152°11′55″ W; thence to the point of beginning, excluding that airspace within 12 miles of the shoreline of the State of Hawaii.

* * * * *

Issued in Washington, DC, on April 4, 2018.
Rodger A. Dean Jr.,
Manager, Airspace Policy Group.

[FR Doc. 2018-07384 Filed 4-10-18; 8:45 am]

BILLING CODE 4910-13-P